DEPARTMENT OF TRANSPORTATION

National Highway Traffic Safety Administration

49 CFR Part 571

[Docket No. NHTSA-2007-28103]

Federal Motor Vehicle Safety Standards for School Bus Passenger Protection

AGENCY: National Highway Traffic Safety Administration (NHTSA), Department of Transportation (DOT).

ACTION: Notice of public meeting, request for comments.

SUMMARY: NHTSA is having a public meeting to bring together a roundtable of State and local government policymakers, school bus and seat manufacturers, pupil transportation associations, and public interest groups to discuss the issue of seat belts on large school buses. The discussion on how best to provide safety during a crash, by compartmentalization or through the use of seat belts, has been ongoing for many years. This public meeting is an opportunity for an exchange among interested parties, as well as the public, on the safety, policy and economic issues related to the use of seat belts on school buses. The date, time, location, and framework for this public meeting are announced in this notice.

DATES: Public Meeting: The public meeting will be held on July 11, 2007, from 8:30 a.m. to 4:30 p.m. at L'Enfant Plaza Hotel, 480 L'Enfant Plaza, SW., Washington, DC.

Comments: Written comments may be submitted to the agency and must be received no later than September 10, 2007.

FOR FURTHER INFORMATION CONTACT: Ms. Harriett Fitzgerald, Office of Crashworthiness Standards, NHTSA, telephone 202-366-3269, e-mail Harriett.Fitzgerald@dot.gov, or Mr. John Hinch, Director, Office of Human Vehicle Performance Research, NHTSA, telephone 202-366-5195, e-mail John.Hinch@dot.gov. Both officials may also be reached at 1200 New Jersey Ave., SE., Washington, DC 20590.

ADDRESSES: Public meeting: The public meeting will be held at L'Enfant Plaza Hotel, 480 L'Enfant Plaza, SW., Washington, DC 20024, telephone: 202-484-1000.

Written comments: Written comments on this meeting and topic must refer to the docket number of this notice and be submitted by any of the following methods:

• Web Site: http://dms.dot.gov. Follow the instructions for submitting comments on the DOT electronic docket site.

• Fax: 1-202-493-2251.

• Mail: Docket Management Facility; U.S. DOT, 1200 New Jersey Ave., SE., West Building, Room W12-140, Washington, DC 20590. Hand Delivery: 1200 New Jersey Ave., SE., Washington, DC 20590, between 9 a.m. and 5 p.m., Monday through Friday, except Federal holidays.

• Federal eRulemaking Portal: Go to http://www.regulations.gov. Follow the online instructions for submitting comments.

You may call Docket Management at 202-366-9317 and visit the Docket from 10 a.m. to 5 p.m., Monday through Friday.

Note that all comments received will be posted without change to http://dms.dot.gov, including any personal information provided. Please see the Privacy Act discussion under the heading “How do I prepare and submit comments?” at the end of this notice. Please see also the discussion there of confidential business information.

SUPPLEMENTARY INFORMATION:

Background

In the School Bus Safety Amendments of 1974, Congress indicated that school transportation should be held to the highest level of safety, since such transportation involves the Nation's most precious resource—children who represent our future.

During the mid 1970's, to address the safety of school bus passengers in a crash, NHTSA established Federal Motor Vehicle Safety Standards (FMVSS's) to increase the strength of school buses and to improve occupant protection. Three standards addressing rollover protection, body joint strength, and passenger seating and crash protection are unique to school buses. Another six standards have additional requirements that specifically provide for the protection of school bus passengers. Still other standards, such as brakes, tires, fuel system integrity and other safety related systems, ensure that school buses meet rigorous requirements for safety when it comes to avoiding a crash in the first place, or enhancing survivability in the event of a crash.

Under existing regulation, the primary means of occupant protection for large school buses is a safety concept known as compartmentalization. Compartmentalization protects occupants by using strong, closely spaced seats equipped with high, absorbing seat backs. Compartmentalization provides passive protection, meaning that the protection is there when needed without the need for passengers to take any action such as buckling a seat belt. This system has proven very effective at preventing serious injuries and fatalities for school aged passengers.

Current data collected by NHTSA show that every year, approximately 482,000 public school buses transporting 25.5 million students to and from school and school-related activities ¹ travel an estimated 4.3 billion miles.² The school bus occupant fatality rate of 0.2 fatalities per 100 million vehicle miles traveled (VMT) is much lower than the overall rate for motor vehicles, which is 1.5 per 100 million VMT. An average of 21 school age passengers die in school transportation-related crashes each year: 6 school bus passengers and 15 pedestrians. NHTSA estimates that there are approximately 8,000 crash related injuries in the school buses each year. Approximately half of both the crashes and fatalities occur in frontal collisions.³

¹ School Transportation News, Buyers Guide 2005.

² School Bus Fleet 2005 Fact Book.

³ DOT HS 810 626 Traffic Safety Facts 2005, School Transportation-Related Crashes. U.S. Department of Transportation, National Highway Traffic Safety Administration.

Seat Belts on School Buses

NHTSA published the final rule establishing FMVSS No. 222, “School bus seating and crash protection,” on January 28, 1976 (41 FR 4016). This regulation became effective for all newly manufactured school buses on and after April 1, 1977. In the rulemaking leading to the 1976 final rule, four notices of proposed rulemaking (NPRM) were published.⁴ Throughout the course of that rulemaking, the issue of requiring seat belts and/or belt anchorages on large school buses was considered. Although the agency ultimately decided not to require safety belts or anchorage systems because compartmentalization provided very effective safety protection for school children, the final rule did not prohibit State and local jurisdictions from installing seat belts. Providing seat belts on buses will not, by itself, improve safety for school bus passengers. If seat belt systems are to be effective, States and local jurisdictions would need to ensure that they are worn properly by all passengers.

⁴ February 22, 1973 (38 FR 4776), July 30, 1974 (39 FR 27586), April 23, 1975 (40 FR 17855) and October 8, 1975 (40 FR 47141).

Since the implementation of their respective State laws, New York (1987), New Jersey (1994) and Florida (2001) have required lap belts, and California (2005) has required lap and shoulder belts, on all newly purchased school buses. NHTSA does not maintain a record of local school districts that also may require seat belts on buses. However, a 1994 University of South Florida (USF) study ⁵ found that many districts might require such systems even though it was not mandatory in their State at the time of the study. At the time of the USF study, only New York required seat belts in all school buses.

⁵ “To Belt or Not To Belt, Experiences of School Districts that Operate Large School Buses Equipped with Seat Belts,” Final Report, August 1994, Center for Urban Transportation Research, College of Engineering, University of South Florida.

In 1987, the National Transportation Safety Board (NTSB) reported on a study of forty-three post-standard school bus crashes investigated by the Safety Board.⁶ NTSB concluded that most fatalities and injuries in school bus crashes occurred because the occupant seating positions were directly in line with the crash forces, and that seat belts would not have prevented those injuries and fatalities. In 1999, NTSB reported on six school bus accidents it investigated in which passenger fatalities or serious injuries occurred away from the area of vehicle impact.⁷ NTSB again found compartmentalization to be an effective means of protecting passengers in school bus crashes. However, because many of those passengers injured in the six crashes were believed to have been thrown from their compartments, NTSB believed other means of occupant protection should be examined. A 1989 National Academy of Sciences (NAS) study ⁸ concluded that the overall potential benefits of requiring seat belts on large school buses were insufficient to justify a Federal mandate for installation. The NAS also stated that funds used to purchase and maintain seat belts might be better spent on other school bus safety programs with the potential to save more lives and reduce more injuries.

⁶ Safety Study—Crashworthiness of Large Post standard School Buses; National Transportation. Safety Board Report No. NTSB/SS-86/03, Washington, DC, 1987.

⁷ Highway Special Investigation Report—Bus Crashworthiness Issues; National Transportation. Safety Board Report No. NTSB/SIR-99/04, Washington, DC, 1999.

⁸ Special Report 222: Improving School Bus Safety, National Research Council, Washington, DC, 1989.

In laboratory simulations of a severe frontal impact crash, NHTSA determined that adding lap belts on large school buses would have little, if any, benefit in reducing serious-to-fatal injuries in severe frontal crashes, and could raise the potential risk for head injury.⁹ But at the same time, lap belts have been on large school buses for over 30 years without any documented serious injuries resulting from the use of the seat belt restraint systems. NHTSA's laboratory simulations also showed that the use of combination lap/shoulder belts, if properly worn, could provide some safety benefit to both large and small school bus occupants regardless of their size. However, incorporation of lap/shoulder belts can significantly reduce the seating capacity of school buses.

⁹ School Bus Safety: Crashworthiness Research, National Highway Traffic Safety Administration, April 2002.

Upon completion of the laboratory simulations, NHTSA issued a press release stating that as a result of research findings, the agency was considering the following changes to the existing Federal safety standards:

• Increasing the seat back height from 508 mm (20 inches) to 610 mm (24 inches) to reduce the potential for passenger override ¹⁰ in the event of a crash.

¹⁰ Override means an occupants head or torso translates forward beyond the forward seat back providing compartmentalization.

• Requiring school buses with a gross vehicle weight rating (GVWR) of 4,536 kg (10,000 pounds) or less to have lap/shoulder restraints. (Currently, seats on these buses must be equipped with lap belts only.)

• Developing standardized test procedures for voluntarily installed lap/shoulder belts.

Subsequently, the agency has developed performance requirements to support a notice of proposed rulemaking that would upgrade the school buses Federal safety standards accordingly.

School Transportation Safety Risks

In July 2002, NAS published Special Report 269, “The Relative Risks of School Travel: A National Perspective and Guidance for Local Community Risk Assessment, National Research Council.” ¹¹ The study analyzed the safety of various transportation modes used by school children to get to and from school and school-related activities. The report concluded that each year there are approximately 800 school-aged children killed in motor vehicle crashes during normal school drive time hours in the various modes of transportation.¹² About 2 percent were school bus-related, and 11 percent were children walking or bicycling; the majority of the fatalities were children in passenger cars, especially those with teen drivers. The report stated that the risk factors associated with these modes are complex and highly interrelated. Changes in any one characteristic of school travel can lead to dramatic changes in the overall risk to the student population. For example, anything that would reduce the number of school bus riders (including reduced seating capacity) could lead to more students seeking a less safe alternative form of transportation for getting to and from school. Thus, it is important for school transportation decisions to take into account all potential aspects of changes to requirements to school transportation.

¹¹ Special Report 269: The Relative Risks of School Travel: A National Perspective and Guidance for Local Community Risk Assessment, National Research Council, Washington, DC, September 2002.

¹² These 800 fatalities were not necessarily transportation to and from school as the destination of the trip was not recorded.

Public Meeting

There is continuing public interest and discussion of on whether seat belts should be required on large school buses. NHTSA is having this public meeting to discuss the safety, policy and economic issues associated with the use of seat belts in large school buses. The meeting will bring together State and local government policy makers, industry associations, school bus and equipment manufacturers, consumer advocates, and school transportation providers.

The meeting will be open to the public, but participation in the panels will be by invitation only. Time will be designated for open floor discussion by the general audience. Meeting participants and the public are also invited to submit comments on this issue to the docket.

The sections below describe the panels for the roundtable meeting. State and Local Policy: State and local policy perspectives regarding seat belts on school buses will be discussed. Panelists will address the requirements for providing school transportation, their considerations in determining whether or not to require seat belts, and the challenges faced in implementing the use of belts on school buses. Panelists will discuss studies or surveys that contributed to their decisions regarding whether or not to require belts on large school buses. Also, the type of seat belt system (lap or lap shoulder) selected for use, if applicable, how that selection was made, the effects of reduced seating capacity in lap/shoulder belt-equipped school buses and any adverse effects resulting from the need to provide transportation for the same number of students after the installation of belt systems will be discussed.

Seat Belt Systems for Buses: Information related to the type of seat belt system designs that are currently being offered in large school buses, and technologies with seats or seat belts will be presented in this panel. Discussion during this panel will also focus on costs of buses with and without belts, sales, the performance specification for seat belts used on buses, experience with manufacturing of belts for buses, and lessons learned from installation of belts on buses. Manufacturers' perspective regarding retrofitting existing school buses with new seat belts will also be discussed.

Economics of Belts on Buses: This panel will focus on the economic impact that implementation of seat belt requirements for school buses have on States and local school districts. Discussion will include the purchase and maintenance costs associated with the seat belts in large school buses, consequences or implications of increased costs for belt-equipped buses, and how school districts handle the effects caused by the increased cost. Discussion will also include the service life cycle of school buses, any changes resulting from incorporating seat belts, and whether there are State laws/regulations that mandate a maximum life cycle for either the belts or buses.

Seat Belt Usage—Experience, Education and Enforcement: For schools and States that use seat belts on school buses, the final panel will discuss their experiences in training and educating children, parents, and drivers, including the impact on emergency evacuation training and procedures. Experience in actual belt usage and enforcement will also be included. Finally, it has often been argued that not requiring seat belt use on school buses sends a mixed message about the importance of using seat belts and establishing a habit of buckling up. Studies or other data to support this will be discussed.

Procedural Matters

The meeting will be open to the public with advanced registration for seating on a space-available basis. Individuals wishing to register to assure a seat in the public seating area should provide their name, affiliation, phone number and e-mail address to Ms. Fitzgerald using the contact information at the beginning of this notice. Should it be necessary to cancel the meeting due to an emergency or some other reason, NHTSA will take all available means to notify registered participants by e-mail or telephone.

The meeting will be held at a site accessible to individuals with disabilities. Individuals who require accommodations such as sign language interpreters should contact Ms. Fitzgerald by June 30, 2007.

A transcript of the meeting and other information received by NHTSA at the meeting will be placed in the docket for this notice at a later date.

Tentative Agenda

8:30-9:15 a.m. Welcome and Opening Remarks

9:15-9:45 a.m. Safety of School Buses ~ NHTSA overview

9:45-10 a.m. Break

10-11:15 a.m. Panel I. State and Local Policy

11:15-12 p.m. Panel II. Seat Belt Systems for Buses

12-12:30 p.m. Roundtable discussion and questions from floor

12:30-1:30 p.m. Lunch on your own

1:30-2 p.m. Panel III. Economics of Belts on Buses

2-2:15 p.m. Roundtable discussion

2:15-2:30 p.m. Break

2:30-3:30 p.m. Panel IV. Seat Belt Usage—Experience, Education and Enforcement

3:30-3:45 p.m. Roundtable discussion

3:45-4:15 p.m. Open discussion and questions from the floor

4:15-4:30 p.m. Closing Remarks—Administrator Nason

How can I submit comments on this subject?

It is not necessary to attend or to speak at the public meeting to be able to comment on the issues. NHTSA invites readers to submit written comments which the agency will consider in its deliberations on seat belts on school buses.

How do I prepare and submit comments?

Your comments must be written and in English. To ensure that your comments are correctly filed in the Docket, please include the docket number of this document in your comments.

Your primary comments must not be more than 15 pages long (49 CFR 553.21). However, you may attach additional documents to your primary comments. There is no limit on the length of the attachments.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, National Highway Traffic Safety Administration, 1200 New Jersey Ave., SE., Washington, DC 20590. Include a cover letter supplying the information specified in our confidential business information regulation (49 CFR part 512).

In addition, send two copies from which you have deleted the claimed confidential business information to Docket Management, 1200 New Jersey Ave. SE., West Building, Room W12-140, Washington, DC 20590, or submit them electronically, in the manner described at the beginning of this notice.

Will the agency consider late comments?

We will consider all comments that Docket Management receives before the close of business on the comment closing date indicated above under DATES. To the extent possible, we will also consider comments that Docket Management receives after that date.

Please note that even after the comment closing date, we will continue to file relevant information in the docket as it becomes available. Further, some people may submit late comments. Accordingly, we recommend that you periodically check the docket for new material.

How can I read the comments submitted by other people?

You may read the comments by visiting Docket Management in person at 1200 New Jersey Ave., SE., West Building, Room W12-140, Washington, DC from 10 a.m. to 5 p.m., Monday through Friday.

You may also see the comments on the Internet by taking the following steps:

Go to the Docket Management System (DMS) Web page of the Department of Transportation (http://dms.dot.gov). On that page, click on “Simple Search.” On the next page (http://dms.dot.gov/search/searchFormSimple.cfm/) type in the five-digit docket number shown at the beginning of this notice. Click on “Search.” On the next page, which contains docket summary information for the docket you selected, click on the desired comments. You may also download the comments.

Authority: 49 U.S.C. 30111, 30168; delegation of authority at 49 CFR 1.50 and 501.8.

Nicole R. Nason,
Administrator.

[FR Doc. E7-10568 Filed 6-1-07; 8:45 am]

BILLING CODE 4910-59-P